DEPARTMENT OF COMMERCE

National Oceanic and Atmospheric Administration

RIN 0648-XD737

Pacific Fishery Management Council; Public Meeting

AGENCY: National Marine Fisheries Service (NMFS), National Oceanic and Atmospheric Administration (NOAA), Commerce.

ACTION: Notice; public meeting.

SUMMARY: The Pacific Fishery Management Council's (Pacific Council) Enforcement Consultants (EC) will hold an online webinar, which is open to the public.

DATES: The webinar will be held Wednesday, February 18, 2015, from 10 a.m. to 12 p.m. Pacific Time.

ADDRESSES: To attend the webinar, visit http://www.gotomeeting.com/online/webinar/join-webinar. Enter the webinar ID, which is 102-992-075, and your name and email address (required). Once you have joined the webinar, choose either your computer's audio or select “Use Telephone.” If you do not select “Use Telephone” GoToMeeting will automatically connect you to the audio using your computer's microphone and speakers (VolP).

If you do not have a headset and speakers, or if there is excessive feedback, please use your telephone for the audio portion of the meeting by dialing this TOLL number +1 (480) 297-0022 (not a toll-free number); then enter the attendee phone audio access code 953-904-034; then enter your audio phone pin (shown after joining the webinar). System Requirements for PC-based attendees: Windows® 7, Vista, or XP; for Mac®-based attendees: Mac OS® X 10.5 or newer; and for mobile attendees: iPhone®, iPad®, Android ™ phone or Android tablet (See the GoToMeeting Webinar Apps). You may send an email to Mr. Kris Kleinschmidt or contact him at (503) 820-2425 for technical assistance. A listening station will also be provided at the Pacific Council office.

Council address: Pacific Council, 7700 NE Ambassador Place, Suite 101, Portland, OR 97220-1384.

FOR FURTHER INFORMATION CONTACT: Brett Wiedoff, Staff Officer; telephone: (503) 820-2424.

SUPPLEMENTARY INFORMATION: The primary purpose of the webinar is to develop a reasonable range of alternatives for the vessel movement monitoring (VMM) agenda item scheduled for the Pacific Council's April 2015 meeting in Rohnert Park, CA. The EC will discuss options to monitor the movement of fishing vessels in the commercial groundfish fishery. The EC will also discuss options for fishpot gear deployment, derelict gear removal options, and fishery declaration enhancements. Other pertinent items that are on the Pacific Council's agenda for the March 2015 meeting in Vancouver, WA may be addressed if time allows. Actions will be restricted to those issues specifically listed in this notice and any issues arising after publication of this notice that require emergency action under Section 305(c) of the Magnuson-Stevens Fishery Conservation and Management Act, provided the public has been notified of the EC's intent to take final action to address the emergency. Public comment may be accommodated if time allows, at the discretion of the EC Chair.

Special Accommodations

The listening station at the Pacific Council office is physically accessible to people with disabilities. Requests for sign language interpretation or other auxiliary aids should be directed to Mr. Kris Kleinschmidt, at (503) 820-2280, at least 5 days prior to the meeting date.

Dated: January 21, 2015.
Tracey L. Thompson,
Acting Deputy Director, Office of Sustainable Fisheries, National Marine Fisheries Service.

[FR Doc. 2015-01261 Filed 1-23-15; 8:45 am]

BILLING CODE 3510-22-P